DEPARTMENT OF THE INTERIOR

Bureau of Land Management

Notice of Intent To Solicit Nominations: Steens Mountain Advisory Council, OR

AGENCY: Bureau of Land Management, Interior.

ACTION: Notice of Call for Nominations.

SUMMARY: The Secretary is requesting nominations for four representatives for the Steens Mountain Advisory Council (SMAC). The Council will advise the Secretary on planning in the Steens Mountain Cooperative Management and Protection Area (CMPA), through the Bureau of Land Management (BLM).

DATES: Submit nomination packages on or before: June 28, 2010.

ADDRESSES: Send completed Advisory Council nominations to Burns District BLM Office; 28910 Highway 20 West; Hines, Oregon 97738-9424. Nomination forms are also available at the Burns District Office.

FOR FURTHER INFORMATION CONTACT: Christi Courtemanche, BLM, Burns District Office, 28910 Highway 20 West, Hines, Oregon 97738, (541) 573-4541 or Christi_Courtemanche@blm.gov.

SUPPLEMENTARY INFORMATION: The SMAC was appointed by the Secretary of the Interior on August 14, 2001, pursuant to the Steens Mountain Cooperative Management and Protection Act of 2000 (Pub. L. 106-399). The SMAC's purpose is to provide representative counsel and advice to the BLM regarding new and unique approaches to management of the land within the bounds of the Steens Mountain Cooperative Management and Protection Area. The BLM is publishing this notice under Section 9 (a)(2) of the Federal Advisory Committee Act, to request nominations from the public for membership on the SMAC. Nomination forms may be obtained from the BLM Burns District Office. Applicants must be qualified through education, training, knowledge, or experience to give informed advice regarding an industry, discipline, or interest to be represented. Nominees must also demonstrate a commitment to collaborative resource decision-making. The Obama Administration prohibits individuals who are currently federally registered lobbyists from serving on all Federal Advisory Committee Act (FACA) and non-FACA boards, committees or councils. Any individual may nominate himself/herself or others to serve on the Council. Nomination applications may be obtained at the Burns District BLM Office or by going to http://www.blm.gov/or/districts/burns/index.php. All nomination applications should include reference letters and/or recommendations from the represented interests or organizations, and any other information explaining the nominee's qualifications (e.g., resume, curriculum vitae). Nominations may be made for the following categories of interest:

• A person with No Financial Interest in the CMPA to represent statewide interests (appointed from nominees submitted by the Governor of Oregon);

• A person who holds a Federal Grazing Permit for lands in the CMPA (appointed from nominees submitted by the County Court of Harney County);

• A member and representative of the Burns Paiute Tribe (appointed from nominees submitted by the Burns Paiute Tribe);

• A person who participates in Mechanized or Consumptive Recreation, such as hunting, off-road driving, hang gliding, or parasailing in the CMPA (appointed from nominees submitted by the Oregon State Director of the BLM);

The specific category the nominee wishes to represent should be identified in the nomination letter. The BLM Burns District Office will collect the nomination forms and reference letters and distribute them to the officials responsible for submitting nominations (County Court of Harney County, the Governor of Oregon, and the BLM). The BLM will then forward recommended nominations to the Secretary of the Interior, who has responsibility for making the appointments.

Members of the SMAC are appointed to 3-year terms. All positions will expire in October 2013. Members serve without monetary compensation, but will be reimbursed for travel and per diem expenses at current rates for Federal employees. The SMAC shall meet only at the call of the Designated Federal Official, but not less than once a year.

Kenny McDaniel,
District Manager.

[FR Doc. 2010-12841 Filed 5-27-10; 8:45 am]

BILLING CODE 4310-33-P